DEPARTMENT OF JUSTICE

Notice of Lodging of Consent Decree Pursuant to Comprehensive Environmental Response, Compensation, and Liability Act

Notice is hereby given that on March 1, 2005, a proposed Consent Decree in United States v. Domenic Lombardi Realty Inc., Civil Action No. 98-CV-591, was lodged with the United States District Court for the District of Rhode Island.

The proposed Consent Decree resolves a claim for reimbursement of response costs, pursuant to section 107(a) of the Comprehensive Environmental Response, Compensation, and Liability Act (“CERCLA”), 42 U.S.C. 9607(a), against Domenic Lombardi Realty, Inc. (“Lombardi”), in connection with the Robin Hollow Road Superfund Site, in West Greenwich, Rhode Island (“Site”). Under the proposed Decree, Lombardi will: (1) Pay $650,000 in two installments—$400,000 within 30 days, and $250,000 within six months, after entry (without interest); and (2) covenant not to appeal or otherwise challenge any judgment issued in this case. To become effective, the Consent Decree must be approved by the United States District Court for the District of Rhode Island.

For a period of thirty (30) days after the date of this publication, the U.S. Department of Justice will accept comments relating to the proposed Consent Decree. Comments should be addressed to the Assistant Attorney General of the Environment and Natural Resources Division, U.S. Department of Justice, c/o David L. Weigert, Esq., Environmental Enforcement Section, P.O. Box 7611, Ben Franklin Station, Washington, DC 20044-7611, and should refer to United States v. Lombardi Realty Inc., Civil Action No. 98-CV-591, DJ # 90-11-3-06538.

The proposed Consent Decree may be examined at the Office of the United States Attorney, District of Rhode Island, Fleet Center, 50 Kennedy Plaza, Providence, RI and office of the U.S. Environmental Protection Agency Region I, One Congress Street, Boston, MA. During the public comment period, the Consent Decree may also be examined on the following Department of Justice Web site, http://www.usdoj.gov/enrd/open.html. Copies of the proposed Consent Decree may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. If requesting a copy of the proposed Consent Decree, please enclose a check in the amount of $3 (25 cents per page reproduction cost) payable to the U.S. Treasury.

Ronald G. Gluck,
Assistant Section Chief, Environmental Enforcement Section, Environment and Natural Resources Division, U.S. Department of Justice.

[FR Doc. 05-5196 Filed 3-15-05; 8:45 am]

BILLING CODE 4410-15-M